DEPARTMENT OF STATE

[Delegation of Authority 290]

Delegation by the Secretary of State to Carol Rodley of Authorities Normally Vested in the Assistant Secretary for Intelligence and Research

By virtue of the authority vested in me as Secretary of State by the laws of the United States, including section 1 of the State Department Basic Authorities Act of 1956, as amended (22 U.S.C. 2651a) and Executive Order 12333 of December 4, 1981, I hereby delegate to Carol Rodley, to the extent authorized by law, all authorities vested in the Assistant Secretary for Intelligence and Research, including all authorities that have been or may be delegated or re-delegated to the Assistant Secretary for Intelligence and Research.

Any act, executive order, regulation, or procedure subject to, or affected by, this delegation shall be deemed to be such act, executive order, regulation, or procedure as amended from time to time.

Notwithstanding this delegation of authority, the Secretary of State or Deputy Secretary of State may exercise any function delegated hereby.

This delegation shall expire upon the appointment and entry upon duty of a new Assistant Secretary for Intelligence and Research.

This delegation of authority shall be published in the Federal Register.

Dated: March 9, 2006.
Condoleezza Rice,
Secretary of State, Department of State.

[FR Doc. E6-3834 Filed 3-15-06; 8:45 am]

BILLING CODE 4710-10-P